DEPARTMENT OF HOMELAND SECURITY

Coast Guard

33 CFR Part 117

[CGD07-04-035]

Drawbridge Operation Regulations; Jensen Beach (SR 707) Bridge, Atlantic Intracoastal Waterway Mile 981.4, Stuart, FL

AGENCY: Coast Guard, DHS.

ACTION: Notice of temporary deviation from regulations.

SUMMARY: The Commander, Seventh Coast Guard District, has approved a temporary deviation from the regulations governing the operation of the Jensen Beach (SR 707a) (Frank A. Wacha) Bridge across the Atlantic Intracoastal Waterway, mile 981.4, Stuart, Florida. This deviation allows the bridge to operate only a single-leaf opening with a double-leaf opening available with a three-hour notice to the bridge tender during certain times of the day.

DATES: This deviation is effective from 8 a.m. on March 31 until 5 p.m. on April 30, 2004.

ADDRESSES: Material received from the public, as well as documents indicated in this preamble as being available in the docket [CGD07-04-035] will become part of this docket and will be available for inspection or copying at Commander (obr), Seventh Coast Guard District, 909 S.E. 1st Avenue, Miami, Florida 33131-3050 between 7:30 a.m. and 4 p.m., Monday through Friday, except Federal Holidays.

FOR FURTHER INFORMATION CONTACT: Mr. Michael Lieberum, Project Officer, Seventh Coast Guard District, Bridge Branch at (305) 415-6744.

SUPPLEMENTARY INFORMATION: The Jensen Beach (SR 707a) (Frank A. Wacha) Bridge across the Atlantic Intracoastal Waterway, mile 981.4, Stuart, Florida, is a double-leaf bascule bridge with a vertical clearance of 24 feet above mean high water (MHW) measured at the fenders in the closed position with a horizontal clearance of 90 feet. The current operating regulation in 33 CFR 117.261(o) requires that the draw shall open on signal; except that from December 1 through May 1, from 7 a.m. to 6 p.m., Monday through Friday, except Federal holidays, the draw need open only on the hour and half-hour.

On February 4, 2004, the bridge owner, Florida Department of Transportation, requested a deviation from the current operating regulations to allow the owner and operator to only open a single-leaf of this bridge from 7 a.m. to 6 p.m. daily, Monday through Friday, March 23 through April 30, 2004, with a double-leaf opening available with a three hour notice to the bridge tender. This deviation is necessary to protect workers' safety during the construction of the new fender system. The Commander, Seventh Coast Guard District, has granted a temporary deviation from the operating requirements listed in 33 CFR 117.261(o) to complete repairs to the bridge fender system. Under this deviation, the Jensen Beach (SR 707) Bridge, Atlantic Intracoastal Waterway mile 981.4, Stuart, Florida, shall only open a single-leaf of this bridge from 7 a.m. to 6 p.m. daily, Monday through Friday, March 31 through April 30, 2004, with a double-leaf opening available with a three hour notice to the bridge tender.

Dated: March 29, 2004.
Greg Shapley,
Chief, Bridge Administration, Seventh Coast Guard District.

[FR Doc. 04-7957 Filed 4-7-04; 8:45 am]

BILLING CODE 4910-15-P